DEPARTMENT OF THE INTERIOR

Bureau of Reclamation

[RR02015200, 15XR0687NA, RX185279294000000]

Notice of Availability for the Final Environmental Impact Statement/Environmental Impact Report for Long-Term Water Transfers, Central Valley and Bay Area, California

AGENCY: Bureau of Reclamation, Interior.

ACTION: Notice.

SUMMARY: The Bureau of Reclamation and the San Luis & Delta-Mendota Water Authority have prepared the Long-Term Water Transfers Final Environmental Impact Statement/Environmental Impact Report (EIS/EIR). The Final EIS/EIR addresses water transfers to Central Valley Project (CVP) contractors south of the Delta and in the San Francisco Bay area from CVP and non-CVP sources from north of the Delta using Delta pumps (both CVP and State Water Project (SWP) facilities). Water transfers could occur through various methods such as groundwater substitution, cropland idling, reservoir release, and conservation, and could include individual and multiyear transfers from 2015 through 2024.

DATES: Reclamation will not make a decision on the proposed action until at least 30 days after the release of the Final EIS/EIR. After the 30-day waiting period, Reclamation will complete a Record of Decision (ROD). The ROD will state the action that will be implemented and will discuss all factors leading to the decision.

ADDRESSES: Send written correspondence or requests for copies to Mr. Brad Hubbard, Bureau of Reclamation, 2800 Cottage Way, Sacramento, CA 95825; or via email to bhubbard@usbr.gov.

To request a compact disc of the Final EIS/EIR, please contact Mr. Brad Hubbard as indicated above, or call (916) 978-5204. The Final EIS/EIR may be viewed at the Bureau of Reclamation's Web site at http://www.usbr.gov/mp/nepa/nepa_projdetails.cfm?Project_ID=18361. See Supplementary Information section for locations where copies of the Final EIS/EIR are available for public review.

FOR FURTHER INFORMATION CONTACT: Mr. Brad Hubbard, Project Manager, Bureau of Reclamation, via email at bhubbard@usbr.gov, or at (916) 978-5204; or Ms. Frances Mizuno, Assistant Executive Director, San Luis & Delta-Mendota Water Authority, via email at frances.mizuno@sldmwa.org, or at (209) 832-6200.

SUPPLEMENTARY INFORMATION: Hydrologic conditions, climatic variability, and regulatory requirements for operation of water projects commonly affect water supply availability in California. Project supplies are often the primary source of water for south of Delta users, and the complex factors constraining operational decisions not only strain total annual water supplies, but regularly create mismatched timing between planting decisions and announcement of final water supply allocations, making advance planning for water shortages necessary and routine. These conditions and resulting shortages create a need for water transfers to help meet water demands.

The purpose of the Long-Term Water Transfers EIS/EIR is to facilitate voluntary water transfers from willing sellers upstream of the Delta to water users south of the Delta and in the San Francisco Bay Area. The maximum approvable quantity transferable to any contractor cannot exceed that contractor's total contract supply, but instead helps to make up for shortages. Such transfers need to be implementable within narrow annual windows for decisions on each end and flexible enough to address highly variable shortages and annual differences in farming decisions north and south of the Delta.

The EIS/EIR analyzes four alternative actions. Alternative 1 is No Action. Alternative 2, Full Range of Transfers, is the Proposed Action. This alternative combines all potential transfer measures that met the purpose and need and were carried forward through the screening process. Alternative 3, No Cropland Modifications, includes conservation, groundwater substitution, and reservoir release. Alternative 4, No Groundwater Substitution, includes conservation, cropland idling transfers— rice, field and grains, crop shifting, and reservoir release.

Transfers of CVP supplies and transfers that require use of CVP facilities are subject to review by the Bureau of Reclamation (Reclamation) in accordance with the Central Valley Project Improvement Act of 1992, Reclamation's water transfer guidelines, and California State law. Pursuant to Federal and State law and subject to separate written agreement, Reclamation and the Department of Water Resources would facilitate water transfers involving CVP contract water supplies and CVP and SWP facilities. Buyers and sellers would be responsible for negotiating the terms of the transfers, including amount of water for transfer, method to make water available, and price.

The EIS/EIR identifies potential selling parties in northern California, methods by which water could be made available for transfer, and maximum amounts of water available through each method. The EIS/EIR also identifies potential purchasing agencies south of the Delta and the proposed use of transfer water.

The EIS/EIR analyzes alternative transfer methods to make water available through operational flexibility of the existing system. Groundwater substitution transfers occur when sellers forego diversion of their surface water supplies and pump an equivalent amount of groundwater as an alternative supply. The purchasing agency would receive the foregone surface water supply. The quantity of water available for transfer would account for potential stream flow losses as a result of groundwater-surface water interaction. Cropland idling would make water available for transfer that would have been used for agricultural irrigation without the transfer. Typically, the proceeds from the water transfer would pay farmers to idle land that they would have placed in production. Reservoir release transfers would involve releasing water from non-Project entities (not part of the CVP or SWP) for transfer that would have otherwise remained in storage. Conservation transfers involve actions to reduce the diversion of surface water by the transferring entity by reducing irrecoverable water losses.

Water transfers under the Proposed Action involving conveyance through the Delta would be implemented within the operational parameters of the existing system, which includes Biological Opinions on the Continued Long-term Operations of the CVP/SWP and any other regulatory restrictions in place at the time of implementation of the water transfers. Current operational parameters applicable to the transfer water include use of the SWP's Harvey O. Banks Pumping Plant and CVP's C.W. “Bill” Jones Pumping Plant during July through September only.

A Notice of Availability of the Draft EIS/EIR was published in the Federal Register on September 30, 2014 (79 FR 58802). The comment period on the Draft EIS/EIR ended on December 1, 2014. The Final EIS/EIR contains responses to all comments received and reflects comments and any additional information received during the review period.

Copies of the Final EIS/EIR are available for public review at the following locations:

1. Bureau of Reclamation, Mid-Pacific Region, Regional Library, 2800 Cottage Way, Sacramento, CA 95825.

2. Natural Resources Library, U.S. Department of the Interior, 1849 C Street NW., Main Interior Building, Washington, DC 20240-0001.

3. San Luis & Delta-Mendota Water Authority, 842 6th Street, Los Banos, CA 93635.

Public Disclosure

Before including your address, phone number, email address, or other personal identifying information in any correspondence, you should be aware that your entire correspondence—including your personal identifying information—may be made publicly available at any time. While you can ask us in your correspondence to withhold your personal identifying information from public review, we cannot guarantee that we will be able to do so.

Dated: February 23, 2015.
Pablo R Arroyave,
Deputy Regional Director, Mid-Pacific Region.

[FR Doc. 2015-06409 Filed 3-19-15; 8:45 am]

BILLING CODE 4332-90-P